DEPARTMENT OF HOMELAND SECURITY

Office of the Secretary

[DHS-2005-0047]

Data Privacy and Integrity Advisory Committee

AGENCY: Office of the Secretary, Department of Homeland Security (DHS).

ACTION: Notice of Federal Advisory Committee meeting.

SUMMARY: The notice announces the date, time, location, and agenda for the next meeting of the Department of Homeland Security Data Privacy and Integrity Advisory Committee. This meeting will include a partially closed session.

DATES: The meeting will be held on Tuesday, December 6, 2005, in Washington, DC.

ADDRESSES: The Department of Homeland Security Data Privacy and Integrity Advisory Committee meeting will be held in the Capitol Ballroom (E & F) at the JW Marriott Hotel, 1331 Pennsylvania Avenue, Washington, DC 20004. Persons wishing to make comments or who are unable to attend or speak at the meeting may submit comments at any time. Comments must be identified by DHS-2005-0047 and may be submitted by any one of the following methods:

• Federal Rulemaking Portal: http://www.regulations.gov. Follow instructions for submitting comments on the Web site.

• E-mail: PrivacyCommittee@dhs.gov. Include docket number in the subject line of the message.

• Fax: 571-227-4171.

• Mail: Ms. Rebecca J. Richards, Executive Director, Data Privacy and Integrity Advisory Committee, Department of Homeland Security, Mail Stop C-3, Arlington, VA 22202.

Instructions: All submissions received must include the Department of Homeland Security and DHS-2005-0047, the docket number for this action. Comments received will be posted without alternation at http://www.regulations.gov, including any personal information provided.

Docket: For access to the docket to read background documents or comments received by the DHS Data Privacy and Integrity Committee, go to http://www.regulations.gov.

Comments received will be posted without alteration at http://www.dhs.gov/privacy, including any personal information provided.

FOR FURTHER INFORMATION CONTACT: Maureen Cooney, Acting Chief Privacy Officer, or Rebecca J. Richards, Executive Director, Data Privacy and Integrity Advisory Committee, Department of Homeland Security, Arlington, VA 22202 by telephone (571) 227-3813, by facsimile (571) 227-4171, or by e-mail PrivacyCommittee@dhs.gov.

SUPPLEMENTARY INFORMATION: The DHS Data Privacy and Integrity Advisory Committee (Committee) will be meeting on Tuesday December 6, 2005, in the Capitol Ballroom (E&F) at the JW Marriott Hotel, 1331 Pennsylvania Avenue, Washington, DC 20004. The meeting will begin at 8:30 a.m. and continue until 4:30 p.m. Although most of the meeting is open to the public, there will be a closed session between 12:30 p.m. and 1:30 p.m., in order to permit the Privacy Advisory Committee members to discuss administrative and planning items, including future meetings and a timeline for possible subcommittee reports to the full Committee.

At the meeting, the Acting Chief Privacy Officer will provide an update on the activities of the Privacy Office. The subcommittees will update the Committee on the work currently being conducted and plan to finalize the Framework for Privacy Analysis of Programs, Technologies, and Applications that was discussed at the September 28, 2005, Meeting in Bellingham, WA. This document can be found at http://www.dhs.gov/privacy and the Committee is seeking comment on it. Finally, in the morning there will be a panel discussion on the uses of data analytics in the public sector.

In the afternoon, there will be a panel presentation by various redress offices at DHS on policies and procedures for handling citizen concerns. This will be followed by a panel of international privacy commissioners discussing cross border cooperation.

Public comments will be accepted during the meeting, between 4 p.m. and 4:30 p.m. All those who wish to testify during this time may register in advance or sign-up on the day of the meeting. In order to allow as many people as possible to testify, witnesses should limit their remarks to three minutes. Due to limited seating, any member of the public who wishes to attend the public session should provide his or her name no later than 12 p.m. EST, Thursday, December 1, 2005, to Rebecca J. Richards via e-mail at PrivacyCommittee@dhs.gov, or via telephone at (571) 227-3813.

Photo identification will be required for entry on the day of the meeting to verify those individuals who have registered for the public session, and everyone who plans to attend should be present and seated by 8:15 a.m. for the morning session and 1:15 p.m., for the afternoon session. Registration information required for attendance will be used for verification purposes on the day of the meeting. Attendance information, including names of members of the public attending, will be made public as part of the official meeting minutes.

Persons with disabilities who require special assistance should indicate this in their admittance request and are encouraged to identify anticipated special needs as early as possible.

Although every effort will be made to accommodate all members of the public, seating is limited and will be allocated on a first-come, first-served basis.

Basis for Closure: Portions of this Committee meeting for administrative and planning purposes which are referenced above are excluded from the Open Meetings requirement pursuant to the authority contained in 41 CFR part 102-3.160(b).

Dated: November 2, 2005.
Maureen Cooney,
Acting Chief Privacy Officer.

[FR Doc. 05-22711 Filed 11-15-05; 8:45 am]

BILLING CODE 4410-10-P